DEPARTMENT OF HEALTH AND HUMAN SERVICES

Centers for Disease Control and Prevention

[30Day-15-15IG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Public Health Associate Program (PHAP) Alumni Assessment—New -- Office for State, Tribal, Local, and Territorial Support (OSTLTS), Centers for Disease Control and Prevention (CDC).

Background and Brief Description

The Centers for Disease Control and Prevention (CDC) works to protect America from health, safety and security threats, both foreign and in the U.S. CDC strives to fulfill this mission, in part, through a competent and capable public health workforce. One mechanism to developing the public health workforce is through training programs like the Public Health Associate Program (PHAP).

The mission of the Public Health Associate Program (PHAP) is to train and provide experiential learning to early career professionals who contribute to the public health workforce. PHAP targets recent graduates with bachelors or masters degrees who are beginning a career in public health. Each year, a new cohort of up to 200 associates is enrolled in the program.

Associates are CDC employees who complete two-year assignments in a host site (i.e., a state, tribal, local, or territorial health department or non-profit organization). Host sites design their associates' assignments to meet their agency's unique needs while also providing on-the-job experience that prepare associates for future careers in public health. Associates also receive CDC-based training in core public health concepts and topics to provide the knowledge, skills, and abilities necessary to succeed in their assignments and provide a foundation for a career in public health.

PHAP hosts an initial in-person orientation and annual public health training at CDC and offers long-distance learning opportunities throughout the program. It is the goal of PHAP to have alumni seek employment within the public health system (i.e., federal, state, tribal, local, or territorial health agencies, or non-governmental organizations), focusing on public health or health/healthcare.

When PHAP originated in 2007, the program focused on increasing recruitment and enrollment; to date, there has been limited systematic assessment of the program. As a result, one current program priority is focused on documenting program outcomes to inform refinements to program processes and activities, demonstrate program impact, and inform decision making about future program direction. The purpose of this information collection request is to gain approval to follow alumni career movement and progression following participation in PHAP. The information collection will enable the program to demonstrate evidence of program outcomes, specifically to document how many alumni are retained as members of the public health workforce, where alumni are employed, what topical and functional public health areas alumni support (e.g., chronic disease, infectious disease, assessment, communications, etc.), to what extent alumni support the capabilities of public health agencies at the federal, state, territorial, local, tribal, and non-governmental organizational levels, and to what extent PHAP has influenced alumni career paths (if at all).

Information will be used to answer key program assessment questions, specifically: “Is PHAP a quality program?”, “Is PHAP an effective program?”, and “What is the impact of PHAP?”

CDC will administer the PHAP Alumni Assessment at two different time points (1 year post-graduation, and 3 years post-graduation) to PHAP alumni. Assessment questions will remain consistent at each administration (i.e., 1 year, or 3 years post-PHAP graduation). The language, however, will be updated for each assessment administration to reflect the appropriate time period. It is estimated that there will be no more than 480 respondents (160 respondents annually) over the course of the three year approval period. The estimated time for data collection is 8 minutes per assessment administration. Assessments will be administered electronically; a link to the assessment Web site will be provided in the email invitation. The total annualized estimated burden is 21 hours. There are no costs to respondents except their time.

Estimated Annualized Burden Hours
Type of respondent | Form name | Number of respondents | Number of responses per respondent | Average burden per response (in hours)
PHAP Alumni | PHAP Alumni Assessment | 160 | 1 | 8/60

Leroy A. Richardson,
Chief, Information Collection Review Office, Office of Scientific Integrity, Office of the Associate Director for Science, Office of the Director, Centers for Disease Control and Prevention.

[FR Doc. 2015-06801 Filed 3-24-15; 8:45 am]

BILLING CODE 4163-18-P